DEPARTMENT OF ENERGY

Federal Energy Regulatory Commission

[Docket No. RM19-12-000]

Revisions to the Filing Process for Commission Forms; Notice of FERC Form No. 60 Taxonomy Update

Notice is hereby given that, on April 2, 2025, the eXtensible Business Reporting Language (XBRL) taxonomies, validation rules, and rendering files needed to file the 2024 FERC Form No. 60 ¹ were restored to Version 2024-04-01.² Version 2024-04-01 is now available for FERC Form No. 60 and is required for the 2024 FERC Form No. 60, currently due on May 1, 2025. The Version 2025-04-01 taxonomies, validation rules, and rendering files for FERC Form No. 60, which were published on March 27, 2025, have been removed from the eForms system because Version 2025-04-01 inadvertently contained updates required by Order No. 898,³ which do not apply to this year's annual FERC Form No. 60 filing. Version 2025-04-01 and the accompanying Order No. 898 updates will be made available in time for the 2025 FERC Form No. 60 annual filings, currently due on May 1, 2026.

¹ The Commission adopted the XBRL process for filing these forms in Order No. 859. Revisions to the Filing Process for Comm'n Forms, Order No. 859, 167 FERC ¶ 61,241 (2019).

² The Commission adopted the final XBRL taxonomies, protocols, implementation guide, and other supporting documents, and established the implementation schedule for filing the Commission Forms following a technical conference in this proceeding. Revisions to the Filing Process for Comm'n Forms, 172 FERC ¶ 61,059 (2020).

³ Acct. & Reporting Treatment of Certain Renewable Energy Assets, Order No. 898, 183 FERC ¶ 61,205 (2023).

This notice does not change any details regarding the implementation of Version 2025-04-01 taxonomies, validation rules, and rendering files for FERC Form Nos. 1, 1-F, 2, 2-A, 3-Q electric, 3-Q natural gas, 6, 6-Q and 714, which are currently available for download in the eForms portal's Taxonomy History page at https://ecollection.ferc.gov/taxonomyHistory.

Dated: April 3, 2025.
Carlos D. Clay,
Deputy Secretary.

[FR Doc. 2025-06080 Filed 4-8-25; 8:45 am]

BILLING CODE 6717-01-P